DEPARTMENT OF TRANSPORTATION

Surface Transportation Board

[Docket No. FD 35791]

Union Pacific Railroad Company—Acquisition and Operation Exemption—Brownsville and Matamoros Bridge Company

AGENCY: Surface Transportation Board, DOT.

ACTION: Notice of Exemption.

SUMMARY: The Board is granting an exemption under 49 U.S.C. 10502 from the prior approval requirements of 49 U.S.C. 11323-25 for Union Pacific Railroad Company (UP), a Class I rail carrier, to acquire and operate 0.8 miles of rail line owned by Brownsville and Matamoros Bridge Company (B&M), between UP milepost 0.59 (B&M milepost 0.80) to the international border with Mexico located at the center point of B&M's railroad bridge (B&M milepost 0.00). B&M is a common carrier by railroad but does not perform railroad operations itself. Historically, UP has conducted all operations on the line. Upon consummation of the transaction, UP will relocate overhead traffic to a newly constructed line outside the city of Brownsville, Tex. This exemption is subject to standard labor protective conditions.

DATES: This exemption will be effective on April 2, 2014. Petitions to stay must be filed by March 21, 2014. Petitions to reopen must be filed by March 28, 2014.

ADDRESSES: Send an original and 10 copies of all pleadings referring to Docket No. FD 35791 to: Surface Transportation Board, 395 E Street SW., Washington, DC 20423-0001. In addition, send one copy of pleadings to: Mack H. Shumate, Jr., 101 North Wacker Drive, #1920, Chicago, IL 60606.

FOR FURTHER INFORMATION: Amy Ziehm, (202) 245-0391. Assistance for the hearing impaired is available through the Federal Information Relay Service (FIRS) at (800) 877-8339.

SUPPLEMENTARY INFORMATION: Additional information is contained in the Board's decision served on March 13, 2014, which is available on our Web site at www.stb.dot.gov.

Decided: March 10, 2014.
By the Board, Chairman Elliott and Vice Chairman Begeman.
Jeffrey Herzig,
Clearance Clerk.

[FR Doc. 2014-05510 Filed 3-12-14; 8:45 am]

BILLING CODE 4915-01-P